DEPARTMENT OF DEFENSE

Office of Secretary

New Collection; Comment Request

AGENCY: Office of the Assistant Secretary of Defense for Health Affairs, DoD.

ACTION: Notice.

In accordance with section 3506 (c)(2)(A) of the Paperwork Reduction Act of 1995, the Office of the Assistance Secretary of Defense (Health Affairs) announces the new collection of a public information collection and seeks public comment on the provisions thereof. Comments are invited on: (a) Whether the new collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received November 13, 2001.

ADDRESSES: Written comments and recommendations on the information collection should be sent to Office of the Assistant Secretary of Defense (Health Affairs) TRICARE Management Activity, Skyline Five, Suite 810, 5111 Leesburg Pike, Falls Church, Virginia 22041-3206, Attn: Mr. Duaine Goodno.

FOR FURTHER INFORMATION CONTACT: To request more information on this proposed information collection, please write to the above address or call Duaine Goodno, Office of the Assistant Secretary of Defense (Health Affairs), TRICARE Management Activity at (703) 681-0039.

Title; Associated Form; and OMB Number: TRICARE Plus Enrollment Applicant and TRICARE Plus Disenrollment Request.

Needs and Uses: These collection instruments serve as an application for enrollment and disenrollment in the Department of Defense's TRICARE Plus Health Plan established in accordance with Title 10 U.S.C. Sections 1099 (which calls for a healthcare enrollment system) and 1086 (which authorizes TRICARE eligibility of Medicare Eligible Persons and has resulted in the development of a new enrollment option called TRICARE Plus) and the Assistant Secretary of Defense, Health Affairs, Policy Memorandum to Establish the TRICARE Plus Program, June 22, 2001. The information collected hereby provides the TRICARE contractors with necessary data to determine beneficiary eligibility and to identify the selection of a health care option.

Affected Public: Individuals or household.

Annual Burden Hours: 2,933.

Number of Respondents: 25,065.

Response Per Respondent: 1.

Average Burden Per Response: .117 hours or 7 minutes.

Frequency: On occasion.

SUPPLEMENTARY INFORMATION:

Summary of Information Collection

The Department of Defense established TRICARE Plus as an enrollment option for persons who are eligible for care in Military Treatment Facilities (MTF) and not enrolled in TRICARE Prime. TRICARE Plus provides an opportunity to enroll with a primary care provider at a specific MTF, to the extent capacity exists. This is a way to facilitate primary care appointments at an MTF when needed. TRICARE Plus enrollment will help MTFs maintain an adequate clinical case mix for Graduate Medical Education programs and support readiness-related medical skills sustainment activities. In order to carry out this program, it is necessary that a certain beneficiaries electing to enroll/disenroll in TRICARE Plus complete an enrollment application/disenrollment request. Completion of the enrollment forms is an essential element of the TRICARE program. There is no lock-in and no enrollment fee for TRICARE Plus.

Dated: September 5, 2001.
Patricia Toppings,
Alternative OSD Federal Register, Liaison Officer, Department of Defense.

[FR Doc. 01-22706 Filed 9-10-01; 8:45 am]

BILLING CODE 5001-08-M